DEPARTMENT OF THE INTERIOR

Fish and Wildlife Service

[FWS-R1-ES-2016-N023; FXES11120100000-167-FF01E00000]

Oregon Department of Forestry; Proposed Safe Harbor Agreement for the Northern Spotted Owl and Draft Environmental Assessment

AGENCY: Fish and Wildlife Service, Interior.

ACTION: Notice of availability; request for comments.

SUMMARY: We, the U.S. Fish and Wildlife Service (Service), have received an application from the Oregon Department of Forestry for an Endangered Species Act (ESA) Enhancement of Survival Permit (Permit) for take of the federally threatened northern spotted owl. The Permit application includes a draft Safe Harbor Agreement (SHA) addressing Service access to Oregon Department of Forestry lands for the survey and removal of barred owls as part of the Service's Barred Owl Removal Experiment (Experiment) in Lane County, Oregon. In response to the permit application, the Service has prepared a draft Environmental Assessment (EA) addressing the permit action. We are making the Permit application, including the draft SHA and the draft EA, available for public review and comment.

DATES: To ensure consideration, written comments must be received from interested parties by April 20, 2016.

ADDRESSES: To request further information or submit written comments, please use one of the following methods, and note that your information request or comments are in reference to the Oregon Department of Forestry draft SHA and draft EA.

• Internet: Documents may be viewed and downloaded on the Internet at http://www.fws.gov/ofwo/.

• Email: barredowlsha@fws.gov. Include “Oregon Department of Forestry SHA” in the subject line of the message.

• U.S. Mail: Betsy Glenn; U.S. Fish and Wildlife Service; Oregon Fish and Wildlife Office; 2600 SE. 98th Ave., Suite 100; Portland, OR 97266.

• Fax: 503-231-6195.

• In-Person Drop-off, Viewing, or Pickup: Call 503-231-6970 to make an appointment (necessary for viewing or pickup only) during regular business hours at the U.S. Fish and Wildlife Service; Oregon Fish and Wildlife Office; 2600 SE. 98th Ave., Suite 100; Portland, OR 97266. Written comments can be dropped off during regular business hours at the above address on or before the closing date of the public comment period (see DATES).

FOR FURTHER INFORMATION CONTACT: Betsy Glenn, U.S. Fish and Wildlife Service (see ADDRESSES), telephone 503-231-6970. If you use a telecommunications device for the deaf (TDD), please call the Federal Information Relay Service (FIRS) at 800-877-8339.

SUPPLEMENTARY INFORMATION: The Oregon Department of Forestry has applied to the Service for a Permit under section 10(a)(1)(A) of the ESA (16 U.S.C. 1531 et seq.). The Permit application includes a draft SHA. The Service has drafted an EA addressing the effects of the proposed Permit action on the human environment.

The SHA covers approximately 20,000 acres of forest lands administered by the Oregon Department of Forestry where timber management activities will occur within the treatment portion of the Oregon Coast Ranges Study Area of the Experiment in Lane County, Oregon. The SHA addresses timber management activities only in the treatment portion of the study area on Oregon Department of Forestry lands. Impacts to spotted owl associated with the Experiment in non-treatment portions of the Study Area are addressed in the environmental review for the Experiment (USFWS 2015). The proposed term of the permit and the SHA is 13 years. In return for permission to access their lands for barred owl surveys and removal in support of the Experiment, the Permit would authorize take of the threatened northern spotted owl (Strix occidentalis caurina) during the term of the Permit caused by forest management activities at sites managed by the Department that may be re-occupied by spotted owls as a result of barred owl removal.

Background

Under a SHA, participating landowners undertake activities on their property to benefit species listed under the ESA. SHAs and their associated permits are intended to encourage private and other non-Federal property owners to implement conservation actions for federally listed species by assuring the landowners that they will not be subjected to increased property use restrictions as a result of their conservation efforts. SHAs must provide a net conservation benefit for the covered species.

The assurances provided under a SHA and its associated permit allow the property owner to alter or modify the enrolled property to agreed-upon baseline conditions, even if such alteration or modification results in the incidental take of a listed species. The baseline conditions represent the existing levels of use of the property by the species covered in the SHA. The SHA assurances are contingent on the property owner complying with obligations in the SHA and the terms and conditions of the Permit. The SHA's net conservation benefits must be sufficient to contribute, either directly or indirectly, to the recovery of the covered listed species.

Permit application requirements and issuance criteria for SHAs are found in the Code of Federal Regulations (CFR) at 50 CFR 17.22(c). The Service's Safe Harbor Policy (64 FR 32717, June 17, 1999) and the Safe Harbor Regulations (68 FR 53320, September 10, 2003; and 69 FR 24084, May 3, 2004) are available at http://www.fws.gov/endangered/laws-policies/regulations-and-policies.html.

Oregon Department of Forestry Safe Harbor Agreement

The proposed Oregon Department of Forestry SHA addresses Service access to lands administered by the Department in support of implementing the Experiment (USFWS 2013a) in the Oregon Coast Ranges Study Area in Lane County, Oregon.

The SHA covers about 20,000 acres of Oregon Department of Forestry lands where timber management activities will occur within the treatment portion of the Oregon Coast Ranges Study Area. The treatment area covers lands owned by many different landowners. The treatment area includes 57 percent Federal lands, 12 percent State lands, and 31 percent private lands. If barred owl removal leads to the re-occupancy of currently unoccupied sites by spotted owls on non-Federal lands administered by the Department that are subject to forest management activities, in the absence of the proposed SHA and Permit, some restrictions or limitations on forest management activities on these lands could occur.

Activities covered under the SHA in the treatment portion of the Study Area are routine forest management activities: Timber harvest, road maintenance and construction activities, and rock pit development.

The mission of the Oregon Department of Forestry is to serve the people of Oregon by protecting, managing, and promoting stewardship of Oregon's forests to enhance environmental, economic, and community sustainability. In alignment with this mission, management of State Forest lands is specifically aimed to provide the “Greatest Permanent Value” to the citizens of the State of Oregon as provided for in Chapter 530 of the Oregon Revised Statues and further defined in Oregon Administrative Rule 629-035-0020. The definition of Greatest Permanent Value includes the protection, maintenance, and enhancement of habitat for native wildlife. The Oregon Department of Forestry is anticipating significant changes and fluctuations in spotted owl occupancy status of well surveyed sites and areas on or near their lands in the treatment area after barred owl removal occurs and potential short-term regulatory impacts to operation plans after barred owl removal in the treatment area occurs.

The purpose of ODF participation in the SHA is to cooperate with USFWS regarding this recovery action while maintaining a reasonable level of certainty regarding regulatory requirements impacting forest operations and management during and after the experiment period. To support the Experiment, under the SHA, the Oregon Department of Forestry will provide the researchers access to Oregon Department of Forestry lands to survey for and to remove barred owls located on Oregon Department of Forestry lands within the treatment portion of the Study Area. In addition, Oregon Department of Forestry will maintain habitat to support actively nesting spotted owls on any reoccupied sites on covered lands during the nesting season.

The Service's Proposed Action

The Service proposes to enter into the SHA and to issue a Permit to the Oregon Department of Forestry for take of the northern spotted owl caused by covered activities, if Permit issuance criteria are met. The Permit would have a total term of 13 years. The permit would start on the date of issuance and would be in effect through August 31, 2025, except that for covered activities related to the harvest of timber sales in non-baseline areas that are auctioned, sold and with a contract signed by the Oregon Department of Forestry prior to August 31, 2025, permit coverage would extend to August 31, 2028. Harvest of potentially suitable spotted owl habitat (nesting, roosting, foraging habitat) on the non-baseline areas will not exceed 3,500 acres during the term of the Permit.

Monitoring of spotted owls on Oregon Department of Forestry lands as part of the ongoing spotted owl surveys conducted under the Northwest Forest Plan Monitoring program has yielded a good dataset that may be included in the SHA to establish a baseline for the estimated current occupancy status of each spotted owl site within the covered area. Any spotted owl sites with a response from at least one resident spotted owl between 2011 and present are considered in the baseline of the SHA. Based on this approach, there are 20 baseline (i.e., currently occupied) and 18 non-baseline (i.e., currently unoccupied) spotted owl sites in the treatment portion of the Oregon Coast Ranges Study Area where the Oregon Department of Forestry manages land.

The conservation benefits for the northern spotted owl under the SHA arise from the Oregon Department of Forestry's contribution to our assessment under the Experiment of the efficacy of barred owl removal to recovery of the spotted owl. That contribution would be provided under the SHA by their allowing Service access to their roads and lands for barred owl surveys and, within the treatment area, barred owl removal. In the Study Area landscape of multiple landowners, access to interspersed non-Federal road and lands for barred owl surveys and, within the treatment area, barred owl removal is important to the efficient and effective completion of the Experiment.

The impact of the increase in non-native barred owl populations as they expand in the range of the spotted owls has been identified as one of the primary threats to the continued existence of the spotted owl. The Recovery Plan for the Northern Spotted Owl includes Recovery Action 29—“Design and implement large-scale control experiments to assess the effects of barred owl removal on spotted owl site occupancy, reproduction, and survival” (USFWS 2011, p. III-65). The Service developed the Barred Owl Removal Experiment to implement this Recovery Action, completing the EIS and ROD in 2013 (USFWS 2013a and b). The Service selected a study conducted on four study areas, including the Oregon Coast Ranges Study Area. Timely results from this experiment are crucial for informing development of a long-term barred owl management strategy that is essential to the conservation of the northern spotted owl.

While the Experiment can be conducted without access to non-Federal lands, failure to remove barred owls from portions of the treatment area could reduce the efficiency and weaken the results of the Experiment regarding any changes in spotted owl population dynamics resulting from the removal of barred owls and potentially warrant extending the duration of the Experiment to offset these implications. The Service has repeatedly indicated the need to gather this information in a timely manner.

Take of spotted owls under this SHA would likely be in the form of harm from forest operation activities that result in habitat degradation, or harassment from forest management activities that cause disturbance to spotted owls. Incidental take in the form of harassment by disturbance is most likely to occur near previously occupied spotted owl nest sites if they become reoccupied. Harm and harassment could occur during timber operations and management that will continue during the Permit term. Covered activities are routine timber harvest and road maintenance and construction activities, including rock pit development that may disturb spotted owls.

Net Conservation Benefits to the Northern Spotted Owl

As discussed above, Service access to Oregon Department of Forestry lands provided for under the SHA is important to the efficient and effective completion of the Experiment within a reasonable timeframe. Under the SHA, all of the currently occupied spotted owl sites on these lands are within the baseline for the SHA and no take of these sites is authorized under the proposed Permit. Under the Permit, if barred owl removal does allow spotted owls to reoccupy sites that are not currently occupied (non-baseline), the Oregon Department of Forestry will be allowed to incidentally take these spotted owls during the term of the Permit. It is highly unlikely that these sites would ever be reoccupied by spotted owls without the removal of barred owls.

The removal of barred owls on the Oregon Coast Ranges Study Area will end within 10 years. The Service anticipates that, once released from the removal pressure, barred owl populations will rebound to pre-treatment levels within 3 to 5 years. This is likely to result in the loss of the newly reoccupied sites. Therefore, any occupancy of these sites is likely to be temporary and short-term.

The proposed SHA and Permit allow for the incidental take of spotted owls at 18 non-baseline (i.e., currently unoccupied) sites in the treatment portion of the Oregon Coast Ranges Study Area if these sites become reoccupied during the barred owl removal study. Incidental take spotted owls on non-baseline owl sites that may be reoccupied can result from disturbance (e.g., noise) from forest management activities or habitat loss. Disturbance with no habitat loss is a temporary effect and is not anticipated to disrupt the spotted owl sites to a level that would affect the results of the experiment. Ten of the 48 historic spotted owl site centers in the treatment area occur on Oregon Department of Forestry lands, and three additional sites are close enough that forest management activities on Oregon Department of Forestry lands could result in some disturbance of the sites if these site centers were reoccupied. Take resulting from disturbance is temporary, short-term, and only likely to occur if activities occur very close to nesting spotted owls. The Oregon Department of Forestry is a minor owner on 6 of the 18 sites, with less than 10 percent of the land ownership and less than 10 percent of the remaining spotted owl nesting/roosting habitat. Federal lands contain the majority of the remaining spotted owl nesting/roosting habitat at these six sites. Thus, assuming these six non-baseline spotted owl sites are re-occupied by spotted owls, and Oregon Department of Forestry removed all habitat remaining on their lands within these sites under their Permit, these sites are likely to remain viable as a result of habitat remaining on other ownerships, including the Federal agencies. On the remaining 12 sites, Oregon Department of Forestry manages 15 to 79 percent of the land and 17 to 84 percent of remaining spotted owl nesting/roosting habitat. Habitat removal within these nesting and roosting sites could result in loss of habitat suitability leading to take of spotted owls. To avoid or minimize the take resulting from disturbance and habitat loss associated with timber management activities on their lands, the Oregon Department of Forestry will maintain at least a 70-acre habitat core for nesting spotted owls that may reoccupy non-baseline sites during the nesting and rearing season (March 1 to September 30 of the year). This allows the owl pairs to produce young and contribute to the future spotted owl population.

The primary conservation value of the Experiment is the information it provides on the efficacy of removal as a tool to manage barred owl populations for the conservation of the spotted owl at the range-wide scale. In the landscape of multiple landowners that exist within the Oregon Coast Ranges Study Area, access to interspersed non-Federal lands is important to the efficient and effective completion of the Experiment within a reasonable time frame under the Oregon Department of Forestry SHA; thus, researchers will need access to roads and lands for barred owl surveys and removal. Thus, the take of spotted owls on the temporarily reoccupied sites is potentially greatly offset by the value of the information gained from the experiment and its potential contribution to the range-wide recovery of the spotted owl by the timely development of a long-term barred owl management strategy. For this reason, the Service believes this SHA would advance the recovery of the spotted owl.

National Environmental Policy Act Compliance

The Service's entering into the proposed SHA and issuance of a Permit is a Federal action that triggers the need for compliance with the National Environmental Policy Act of 1969, as amended (42 U.S.C. 4321 et seq.) (NEPA). We have prepared a draft EA to analyze the impacts of this proposed action on the human environment in comparison to the no-action alternative.

Public Comments

You may submit your comments and materials by one of the methods listed in the ADDRESSES section. We request data, new information, or suggestions from the public, other concerned governmental agencies, Tribes, the scientific community, industry, or any other interested party on our proposed Federal action. In particular, we request information and comments regarding the following issues:

1. The direct, indirect, and cumulative effects that implementation of the SHA could have on endangered and threatened species;

2. Other reasonable alternatives consistent with the purpose of the proposed SHA as described above, and their associated effects;

3. Measures that would minimize and mitigate potentially adverse effects of the proposed action;

4. Identification of any impacts on the human environment that should have been analyzed in the draft EA pursuant to NEPA;

5. Other plans or projects that might be relevant to this action;

6. The proposed term of the Permit and whether the proposed SHA would provide a net conservation benefit to the spotted owl; and

7. Any other information pertinent to evaluating the effects of the proposed action on the human environment.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety. Comments and materials we receive, as well as supporting documentation we used in preparing the draft EA, will be available for public inspection by appointment, during normal business hours, at our Oregon Fish and Wildlife Office (see ADDRESSES).

Next Steps

We will evaluate the draft SHA, associated documents, and any public comments we receive to determine whether the Permit application and the EA meet the requirements of section 10(a) of the ESA, NEPA, and their respective implementing regulations. We will also evaluate whether issuance of a Permit would comply with section 7(a)(2) of the ESA by conducting an intra-Service section 7 consultation on the proposed Permit action. If we determine that all requirements are met, we will sign the proposed SHA and issue a Permit under section 10(a)(1)(A) of the ESA to the Oregon Department of Forestry, for take of the northern spotted owl caused by covered activities in accordance with the terms of the Permit and the SHA. We will not make our final decision until after the end of the 30-day public comment period, and we will fully consider all comments and information we receive during the public comment period.

Authority

We provide this notice pursuant to section 10(c) of the ESA, its implementing regulations (50 CFR 17.22), and NEPA and its implementing regulations (40 CFR 1506.6).

Theresa Rabot,
Deputy Regional Director, Pacific Region, U.S. Fish and Wildlife Service, Portland, Oregon.

[FR Doc. 2016-06276 Filed 3-18-16; 8:45 am]

BILLING CODE 4333-15-P